DEPARTMENT OF DEFENSE

Office of the Secretary

Establishment of Department of Defense Federal Advisory Committee

AGENCY: DoD.

ACTION: Establishment of Federal Advisory Committee.

SUMMARY: Under the provisions of the Federal Advisory Committee Act of 1972 (5 U.S.C. Appendix) and 41 Code of Federal Regulations § 102-3.50(d), the Secretary of Defense, on October 11, 2010, established the Army National Cemeteries Advisory Commission. This discretionary advisory committee was chartered to provide independent advice and recommendations on matters relating to the Army National Cemeteries Program. On December 31, 2011, Public Law 112-81 § 4723, National Defense Authorization Act for Fiscal Year 2012, directed the Department of Defense to create an “advisory committee on Arlington National Cemetery,” to advise the Department “with respect to the administration of Arlington National Cemetery, the erection of memorials at the cemetery, and master planning for the cemetery.”

Based upon this the Department disestablished the Army National Cemeteries Advisory Commission and established the Advisory Committee on Arlington National Cemetery. Like the former Commission, the new Committee's charter authorizes the Secretary of Defense to appoint up to nine members who are preeminent authorities in their respective fields of interest or expertise.

The Committee is a non-discretionary federal advisory committee that shall provide the Secretary of Defense through the Secretary of the Army, independent advice and recommendations, with respect to the administration of Arlington National Cemetery, the erection of memorials at the cemetery, and master planning for the cemetery.

The Committee shall report to the Secretary of Defense through the Secretary of the Army. The Secretary of the Army may act upon the Committee's advice and recommendations. The Committee shall be comprised of no more than nine members who are preeminent authorities in their respective fields of interest or expertise, including:

a. One member nominated by the Secretary of Veterans Affairs;

b. One member nominated by the Secretary of the American Battle Monuments Commission; and

c. No more than 7 members nominated by the Secretary of the Army.

Committee members, who are not full-time or permanent part-time Federal officers or employees, shall be appointed to serve as experts and consultants under the authority of 5 U.S.C. § 3109 and shall serve as special government employees. All Committee members shall be appointed by the Secretary of Defense and their appointments shall be renewed on an annual basis.

The Secretary of the Army shall designate the Co-Chairs from the total Committee membership. With the exception of travel and per diem for official Committee related travel, Committee members shall serve without compensation.

The Secretary of Defense may approve the appointment of Committee members for one- to four-year terms of service; however, no member, unless authorized by the Secretary of Defense, may serve more than two consecutive terms of service. This same term of service limitation also applies to any DoD authorized subcommittees.

Each Committee member is appointed to provide advice on behalf of the government on the basis of his or her best judgment without representing any particular point of view and in a manner that is free from conflict of interest.

The Department, when necessary, and consistent with the Committee's mission and DoD policies and procedures, may establish subcommittees to support the Committee. Establishment of subcommittees will be based upon a written determination, to include terms of reference, by the Secretary of Defense, the Deputy Secretary of Defense or the Committee's sponsor. Such subcommittees shall not work independently of the chartered Committee, and shall report all their recommendations and advice to the Committee for full deliberation and discussion. Subcommittees have no authority to make decisions on behalf of the chartered Committee; nor can any subcommittee or its members update or report directly to the DoD or any Federal officers or employees.

All subcommittee members shall be appointed in the same manner as the Committee members; that is, the Secretary of Defense shall appoint subcommittee members even if the member in question is already a Committee member. Subcommittee members, with the approval of the Secretary of Defense, may serve a term of service on the subcommittee of one to four years. Subcommittee members, if not full-time or part-time government employees, shall be appointed to serve as experts and consultants under the authority of 5 U.S.C. 3109, and shall serve as special government employees, whose appointments must be renewed by the Secretary of Defense on an annual basis. With the exception of travel and per diem for official Committee related travel, subcommittee members shall serve without compensation.

All subcommittees operate under the provisions of FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Committee shall meet at the call of the Committee's Designated Federal Officer, in consultation with Committee's Chairpersons. The estimated number of Committee meetings is four per year.

In addition, the Designated Federal Officer is required to be in attendance at all Committee and subcommittee meetings for the entire duration of each and every meeting; however, in the absence of the Designated Federal Officer, a properly approved Alternate Designated Federal Officer shall attend the entire duration of the Committee or subcommittee meeting.

The Designated Federal Officer, or the Alternate Designated Federal Officer, shall call all of the Committee's and subcommittees' meetings; prepare and approve all meeting agendas; adjourn any meeting when the Designated Federal Officer, or the Alternate Designated Federal Officer, determines adjournment to be in the public interest or required by governing regulations or DoD policies/procedures; and chair meetings when directed to do so by the official to whom the Committee reports.

Pursuant to 41 CFR 102-3.105(j) and 102-3.140, the public or interested organizations may submit written statements to Advisory Committee on Arlington National Cemetery membership about the Committee's mission and functions. Written statements may be submitted at any time or in response to the stated agenda of planned meeting of the Advisory Committee on Arlington National Cemetery.

All written statements shall be submitted to the Designated Federal Officer for the Advisory Committee on Arlington National Cemetery, and this individual will ensure that the written statements are provided to the membership for their consideration. Contact information for the Advisory Committee on Arlington National Cemetery's Designated Federal Officer can be obtained from the GSA's FACA Database— https://www.fido.gov/facadatabase/public.asp. The Designated Federal Officer, pursuant to 41 CFR 102-3.150, will announce planned meetings of the Advisory Committee on Arlington National Cemetery. The Designated Federal Officer, at that time, may provide additional guidance on the submission of written statements that are in response to the stated agenda for the planned meeting in question.

Dated: August 10, 2012.
Aaron Siegel,
Alternate OSD Federal Register Liaison Officer, Department of Defense.

[FR Doc. 2012-20154 Filed 8-15-12; 8:45 am]

BILLING CODE 5001-06-P